DEPARTMENT OF HOMELAND SECURITY

United States Coast Guard

[Docket No. USCG-2010-0455]

Availability of Final Environmental Impact Statement for the Proposed Construction of a Highway Bridge Across the Manatee River at Parrish, Manatee County, FL

AGENCY: Coast Guard, DHS.

ACTION: Notice of availability.

SUMMARY: The Coast Guard announces the availability of the final environmental impact statement (FEIS) for the proposed construction of a highway bridge across the Manatee River at Parrish, Manatee County, Florida. As a structure over navigable waters of the United States, the proposed bridge would require a Coast Guard bridge permit. The FEIS presents an analysis of the potential for impact to the natural, human and cultural environment of the proposed bridge.

ADDRESSES: The FEIS is available online at http://www.regulations.gov. It can also be viewed at the Coast Guard's Seventh District Bridge Office, 909 SE 1st Avenue, Brickell Plaza Federal Building, Ste 432, Miami, Florida, 33131, between 8 a.m. and 4 p.m., Monday through Friday, except Federal holidays.

FOR FURTHER INFORMATION CONTACT: For information about this document call or email Randall Overton, Bridge Management Specialist, Seventh Coast Guard District, U.S. Coast Guard; telephone 305-415-6736, email Randall.D.Overton@uscg.mi. If you have questions on viewing or submitting material to the docket, call Cheryl Collins, Program Manager, Docket Operations, telephone 202-366-9826.

SUPPLEMENTARY INFORMATION: This notice is issued under the authority of 5 U.S.C. 552(a) and the regulations governing NEPA (40 CFR 1501, et. seq.). Under the General Bridge Act of 1946 (33 U.S.C. 525-533), construction of a bridge over a navigable U.S. waterway requires the Coast Guard to grant a bridge permit. Such a permit would be needed for the proposed Manatee River highway bridge, and under the National Environmental Policy Act of 1969 (NEPA, 42 U.S.C. 4321 et seq.), a FEIS is necessary before the permit can be issued. The environmentally preferred alternative is identified as a bridge connecting Upper Manatee River Road and Fort Hamer Road near mile 15.0 of the Manatee River at Parrish, Florida. The purpose of the proposed bridge is to facilitate local transportation east of Interstate 75 due to the high population growth in this area. It would provide vertical clearance of at least 26 feet. Public comments on a draft environmental impact statement were received and are discussed in section 5.4 of the FEIS.

In addition to making the FEIS available as noted under ADDRESSES, copies of the FEIS are available from the Manatee County Chamber of Commerce (telephone 941-748-3411) and at county library locations (Central Library telephone 941-748-5555 and Rocky Bluff Library telephone 941-723-4821). Also, the U.S. Environmental Protection Agency (EPA) will issue its own notice of the FEIS's availability. The FEIS will be considered final 30 days after publication of the EPA notice, and the Coast Guard will thereafter issue its Record of Decision, completing its NEPA analysis.

Dated: April 7, 2014.
Brian L. Dunn,
Chief, Office of Bridge Programs, U.S. Coast Guard.

[FR Doc. 2014-08552 Filed 4-14-14; 8:45 am]

BILLING CODE 9110-04-P